DEPARTMENT OF TRANSPORTATION

Bureau of Transportation Statistics

[Docket BTS-2002-13790]

Notice of Request To Renew Approval of Information Collection; Collection: OMB No. 2139-0003 (Financial and Operating Statistics for Motor Carriers of Passengers)

AGENCY: Bureau of Transportation Statistics (BTS), U.S. DOT.

ACTION: Notice and request for comments.

OMB Control Numbers: 2139-0003 (Form MP-1, Quarterly and Annual Reports).

SUMMARY: This notice announces that the information collection request (ICR) to renew approval for the information collection, the Annual and Quarterly Reports for Class I Motor Carriers of Passengers (Form MP-1) has been sent to the Office of Management and Budget (OMB) for review and approval. This information collection is necessary to ensure that motor carriers comply with financial and operating statistics requirements as prescribed in the BTS regulations (49 CFR 1420). The Federal Register notice allowing for a 60-day comment period on this information collection was published on November 15, 2002 (67 FR 69300). This notice is required under the Paperwork Reduction Act (PRA).

DATES: Comments must be submitted to OMB on or before April 14, 2003.

ADDRESSES: Send comments to the Office of Information and Regulatory Affairs, Office of Management and Budget, New Executive Office Building, NW., Room 10202, Washington, DC 20502, ATTN: Desk Officer for the Bureau of Transportation Statistics. Comments should identify the docket number, BTS-2002-13790, and be submitted in duplicate. OMB requests comments by April 14, 2003 to process the information collection request expeditiously.

FOR FURTHER INFORMATION CONTACT: Paula R. Robinson, Compliance Program Manager, Office of Motor Carrier Information, K-13, Bureau of Transportation Statistics, 400 Seventh Street, SW., Washington, DC 20590-0001; (202) 366-2984; fax: (202) 366-3364; e-mail: paula.robinson@bts.gov.

SUPPLEMENTARY INFORMATION:

Electronic Access

An electronic copy of this document may be downloaded by using a computer, modem, and suitable communications software from the Government Printing Office's Electronic Bulletin Board Services at (202) 512-1661. Internet users may reach the Office of the Federal Register's Home Page at: http://www.nara.gov/fedreg and the Government Printing Office's database at: http://www.access.gpo.gov/nara. You can also view and download this document by going to the Web page of the Department's Docket Management System (http://dms.dot.gov/). On that page, click on “search.” On the next page, type the last five digits of the docket number shown in the heading of this document. Then click on “search.”

The public should be aware that anyone may search the electronic form of all comments received in the Department's Docket Management System by using the name of the individual submitting the comment (or signing the comment, if submitted on behalf of an association, business, labor union, etc.). You may review DOT's complete Privacy Act Statement in the Federal Register published on April 11, 2000 (Volume 65, Number 70; Pages 19477-78) or you may visit http://dms.dot.gov.

Background

The Quarterly and Annual Report of Motor Carriers of Passengers (Form MP-1) is a mandated reporting requirement for any for-hire Class I motor carriers of passengers that have annual operating reviews that are $5,000,000 dollars or more. Motor carriers required to comply with the BTS regulations are classified on the basis of their annual gross carrier operating revenues (including interstate and intrastate). Under the financial and operating statistics (F&OS) program, the BTS collects balance sheet and income statement data along with information on tonnage, mileage, employees, transportation equipment, and other related data. These regulations were formerly administered by Interstate Commerce Commission (ICC), the Interstate Commerce Act, 49 U.S.C. 11145, 49 U.S.C. 11343(d)(1) and the Bus Regulatory Act of 1982 and later transferred to the Secretary of Transportation under 49 U.S.C. 14123 and BTS’ implementing regulations (49 CFR part 1420).

Comment to the Docket

The BTS published in the Federal Register the required notice offering a 60-day comment period on November 15, 2002 (67 FR 69300). The agency received one comment to the docket from the Central Analysis Bureau, Inc., (CAB). The CAB is a private organization within the insurance industry that provides services to motor carriers of passengers and property.

In their comments, CAB supports the agency's need for the data collection and the agency's combined use of the form both as a quarterly and annual report for passenger carriers, however, it recommends that the agency revise its existing MP-1 Form and initiate efforts to prescribe a new MP-1 Form that complies with governing statutes. CAB believes that the current MP-1 Form does not meet statutory requirements, in that it lacks sufficient details in the balance sheet and income statement information. CAB further states that in order to permit a proper evaluation of a passenger carrier's ability to operate with sufficient capital that the agency must require more detailed information. They suggest a new form, which would include more meaningful financial and safety information. Secondly, CAB suggests that if the quarterly report were supplemental to an improved annual report for passenger carriers, the form would have greater utility.

The CAB believes that proper motor carrier financial reporting continues to be a crucial safety issue because “almost every safety study, such as the General Accounting Office's April 1991 report, “Freight Trucking: Promising Approach for Predicting Carriers' Safety Risks” has found that financially weak motor carriers have more accidents. The CAB believes that a financially weak motor carrier will sometimes cut back on safety engineering services, including maintenance, employee hiring standards, and other safety related aspects.

CAB also recommends that the agency conduct a survey of all passenger carriers to determine their qualifying revenues. Currently, motor carriers of passengers with annual operating revenues of $5 million dollars or more are required to file the Form MP-1. Under the CAB proposal, the reporting threshold would be lowered to $3 million dollars in annual operating revenues.

BTS Response

BTS reviewed the CAB comment. It should be noted that the comment contained multiple proposals that would require the agency to conduct a rulemaking. The BTS is deferring rulemaking action, at this time, because the benefits of increasing the reporting requirements do not appear to outweigh the costs of the increased regulatory burden. The agency will consider CAB's proposal in any future rulemaking to revise the agency's reporting requirements.

The agency will consider CAB's proposal for the agency to survey passenger carriers about their qualifying revenues as a long-term action. The agency believes that it is not practical at this time to conduct a survey because it does not have the resources and/or necessary approval from OMB.

In the meantime, the agency will continue to work with motor carriers of passengers and others within the bus and transportation community to collect F&OS data and to conduct and facilitate useful analysis. Although no additional comments were received to the docket, specifically from the regulated community, the agency believes that the present regulations are not burdensome. Therefore, BTS without any additional data or information bus carriers or other affected parties as to the extent of the burden, will not proceed with the CAB's recommendation at this time. BTS will continue to work with CAB and others in the future on ways to reduce the burden on the motor carrier industry and improve the reporting process.

Information Collected for a Non-Statistical Purpose

Respondents are hereby notified by this notice that BTS uses the information it collects under this OMB approval for non-statistical purposes including, but not limited to, publication of both Respondent's identity and its data. There may be reports of this information to agencies outside BTS for review, analysis, and other possible non-statistical uses.

The Data Collection

The Paperwork Reduction Act of 1995 (44 U.S.C. Chapter 35; as amended) and 5 CFR part 1320 require each Federal agency to obtain an OMB approval to continue an information collection activity for which the agency received prior approval. BTS is seeking OMB' approval for the following BTS information collection activity.

Title: Class I Quarterly and Annual Reports of Motor Carriers of Passengers.

OMB Control Number: 2139-0003.

Form Number: BTS Form MP-1.

Type of Review: Extension of a currently approved collection.

Respondents: Class I Motor Carriers of Passengers.

Number of Respondents: 26.

Estimated Time Per Response: 1.5 hours.

Expiration Date: February 28, 2003.

Frequency: Quarterly and Annually.

Total Annual Burden: 195 hours.

Abstract: This report provides financial and operating data. The Department of Transportation uses this information to assess the health of the industry and identify industry changes that may affect national transportation policy. The data also show company financial stability and traffic.

For additional information regarding this data collection, interested parties may review the supporting statements the agency submitted to OMB.

Issued on: March 10, 2003 in Washington, DC.
Russell B. Capelle, Jr.,
Assistant BTS Director for Motor Carrier Information, Department of Transportation.

[FR Doc. 03-6185 Filed 3-13-03; 8:45 am]

BILLING CODE 4910-FE-P